DEPARTMENT OF HOUSING AND URBAN DEVELOPMENT

[Docket No. FR-5478-N-02]

Privacy Act of 1974; Notice of a Computer Matching Program Between the Department of Housing and Urban Development (HUD) and the Social Security Administration (SSA): Matching Tenant Data in Assisted Housing Programs

AGENCY: Office of the Chief Information Officer, HUD.

ACTION: Notice of a computer matching program between HUD and SSA.

SUMMARY: Pursuant to the Computer Matching and Privacy Protection Act of 1988, as amended, and the Office of Management and Budget's (OMB) Guidance on the statute (5 U.S.C. 552a, as amended), HUD is notifying the public of its intent to execute, in November 2011, a new computer matching program with SSA, for a recurring matching program with HUD's Office of Public and Indian Housing (PIH) and Office of Housing. The most recent renewal of the current matching agreement expires on November 6, 2011. HUD will obtain SSA data and make the results available to (1) Program administrators such as public housing agencies (PHAs) and private owners and management agents (O/As) (collectively referred to as POAs) to enable them to verify the accuracy of income reported by the tenants (participants) of HUD rental assistance programs and (2) contract administrators (CAs) overseeing and monitoring O/A operations as well as independent public auditors (IPAs) that audit both PHAs and O/As.

DATES: Effective Date: The effective date of this agreement, and the date the match may begin is the later of the following dates: 40 days after HUD files a report of the subject matching program with the Committee on Oversight and Government Reform of the House of Representatives, the Committee on Homeland Security and Governmental Affairs of the Senate, and the Office of Management and Budget's (OMB), Office of Information and Regulatory Affairs; or 30 days after HUD publishes notice of the computer matching program in the Federal Register, unless changes to the matching program are required due to public comments or by Congressional or by Office of Management and Budget objections. Any public comment must be received before the effective comment due date.

Comments Due Date: October 14, 2011.

ADDRESSES: Interested persons are invited to submit comments regarding this notice to the Rules Docket Clerk, Office of General Counsel, Department of Housing and Urban Development, 451 Seventh Street, SW., Room 10276, Washington, DC 20410-0500. Communications should refer to the above docket number and title. Comments sent by facsimile are not acceptable. A copy of each communication submitted will be available for public inspection and copying between 8:00 a.m. and 5:00 p.m. weekdays at the above address.

FOR FURTHER INFORMATION CONTACT: For Privacy Act inquires: Office of the Chief Information Officer, contact Donna Robinson-Staton, Chief Privacy Officer, Department of Housing and Urban Development, 451 Seventh Street, SW., Room 2256, Washington, DC 20410, telephone number (202) 402-8073. For program information: Office of Public and Indian Housing: Real Estate Assessment Center, contact Nicole Faison, Program Advisor, Department of Housing and Urban Development, 451 Seventh Street, SW., Room PCFL1, Washington, DC 20410, telephone number (202) 475-7963; Office of Housing, contact Kate Brennan, Director of the Housing Assistance Policy Division, Department of Housing and Urban Development, 451 Seventh Street, SW., Room 6138, Washington, DC 20410, telephone number (202) 402-6732. (These are not toll free telephone numbers). A telecommunications device for hearing- and speech-impaired individuals (TTY) is available at (800) 877-8339 (Federal Information Relay Service).

SUPPLEMENTARY INFORMATION: This notice supersedes a similar notice published in the Federal Register (FR) on March 31, 2010, at 75 FR 16171. Administrators of HUD rental assistance programs rely upon the accuracy of tenant-reported income to determine participant eligibility for and level of, rental assistance. The computer matching program may provide indicators of potential tenant unreported or under-reported income, which will require additional verification to identify inappropriate or inaccurate rental assistance, and may provide indicators for potential administrative or legal actions. The matching program will be carried out to detect inappropriate or inaccurate rental assistance under sections 221(d)(3), 221(d)(5), and 236 of the National Housing Act, the United States Housing Act of 1937, section 101 of the Housing and Community Development Act of 1965, section 202 of the Housing Act of 1959, section 811 of the Cranston-Gonzalez National Affordable Housing Act, the Native American Housing Assistance and Self-Determination Act of 1996, and the Quality Housing and Work Responsibility Act (QHWRA) of 1998. On March 11, 2009, Section 239 of HUD's 2009 Appropriations Act modified Section 904 of the Stewart B. McKinney Act of 1988, as amended, to include the Disaster Housing Assistance program (DHAP) as a covered HUD rental assistance program in HUD computer matching activities. The computer matching program will also provide for the verification of social security numbers (SSNs) of tenants participating in covered rental assistance programs. This notice provides an overview of computer matching for HUD's rental assistance programs. Specifically, the notice describes HUD's program for computer matching of its tenant data to SSA's death data, Social Security (SS) and Supplemental Security Income (SSI) benefits data.

The Computer Matching and Privacy Protection Act (CMPPA) of 1988, an amendment to the Privacy Act of 1974 (5 U.S.C. 552a), OMB's guidance on this statute entitled “Final Guidance Interpreting the Provisions of Public Law 100-503, the CMPPA of 1988” (OMB Guidance), and OMB Circular No. A-130 requires publication of notices of computer matching programs. Appendix I to OMB's Revision of Circular No. A-130, “Transmittal Memorandum No. 4, Management of Federal Information Resources,” prescribes Federal agency responsibilities for maintaining records about individuals. In compliance with the CMPPA and Appendix I to OMB Circular No. A-130, copies of this notice are being provided to the Committee on Government Reform and Oversight of the House of Representatives, the Committee of Homeland Security and Governmental Affairs of the Senate, and OMB's Office of Information and Regulatory Affairs.

I. Authority

This matching program is being conducted pursuant to the Privacy Act of 1974 (5 U.S.C. 552a); 542(b) of the 1998 Appropriations Act (Pub. L. 105-65); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); and the QHWRA Act of 1998 (42 U.S.C. 1437a(f)). The Housing and Community Development Act of 1987 authorizes HUD to require participants of HUD rental housing assistance programs to disclose their social security numbers (SSNs) to HUD as a condition of continuing (or initial) eligibility for participation in the programs. The QHWRA of 1998, section 508(d), 42 U.S.C. 1437a(f) authorizes the Secretary of HUD to require disclosure by the tenant to the PHA of income information received by the tenant from HUD as part of the income verification procedures of HUD. The QHWRA was amended by Public Law 106-74, which extended the disclosure requirements to participants in section 8, section 202, and section 811 assistance programs. The participants are required to disclose the HUD-provided income information to owners responsible for determining the participant's eligibility or level of benefits.

The Refinement of Income and Rent Determination Requirements in Public and Assisted Housing Programs: Implementation of the Enterprise Income Verification (EIV) System—Amendments; Final Rule published at 74 FR 68924 on December 29, 2009, requires program administrators to use HUD's EIV system to verify tenant income information during mandatory reexaminations or recertifications of family composition and income; and reduce administrative and subsidy payment errors in accordance with HUD administrative guidance (24 CFR 5.233).

This computer matching program also assists HUD in complying with the following federal laws, requirements, and guidance related to identifying and reducing improper payments:

1. Improper Payments Elimination and Recovery Act of 2010 (IPERA) (Pub. L. 111-204);

2. Presidential Memorandum on Enhancing Payment Accuracy Through a “Do Not Pay List” (June 18, 2010).

3. Office of Management and Budget M-10-13, Issuance of Part III to OMB Circular A-123, Appendix C.

4. Presidential Memorandum on Finding and Recapturing Improper Payments (March 10, 2010);

5. Reducing Improper Payments and Eliminating Waste in Federal Programs (Executive Order 13520, November 2009);

6. Improper Payments Information Act of 2002 (Pub. L. 107-300); and

7. Office of Management and Budget M-03-13, Improper Payments Information Act of 2002 Implementation Guide.

II. Covered Programs

This notice of computer matching program applies to the following rental assistance programs:

A. Disaster Housing Assistance Program (DHAP).

B. Public Housing.

C. Section 8 Housing Choice Voucher (HCV).

D. Project-Based Voucher.

E. Section 8 Moderate Rehabilitation.

F. Project-based Section 8.

1. New Construction.

2. State Agency Financed.

3. Substantial Rehabilitation.

4. Section 202/8.

5. Rural Housing Services Section 515/8.

6. Loan Management Set-Aside (LMSA).

7. Property Disposition Set-Aside (PDSA).

G. Section 101 Rent Supplement.

H. Section 202/162 Project Assistance Contract (PAC).

I. Section 202 Project Rental Assistance Contract (PRAC).

J. Section 811 Project Rental Assistance Contract (PRAC).

K. Section 236 Rental Assistance Program.

L. Section 221(d)(3) Below Market Interest Rate (BMIR).

Note: This notice does not apply to the Low Income Housing Tax Credit(LIHTC) or the Rural Housing Services Section 515 without Section 8 programs.

III. Objectives To Be Met by the Matching Program

HUD's primary objective in implementing the computer matching program is to verify the income of individuals participating in the rental assistance programs identified in Section II above, to determine the appropriate level of rental assistance, and to detect, deter, reduce and correct fraud and abuse in rental housing assistance programs. In meeting this objective, HUD also is carrying out its responsibility under 42 U.S.C. 1437f(K) to ensure that income data provided to POAs by household members is complete and accurate. HUD's various assisted housing programs, administered through POAs, require that participants meet certain income and other criteria to be eligible for rental assistance. In addition, tenants generally are required to report the amounts and sources of their income at least annually. However, under the QHWRA of 1998, PHAs must offer public housing tenants the option to pay a flat rent, or an income-based rent annually. Those tenants who select a flat rent will be required to recertify income at least every three years. In addition, the Changes to the Admissions and Occupancy Final Rule (March 29, 2000; 65 FR 16692) specified that household composition must be recertified annually for tenants who select a flat rent or income-based rent.

Other objectives of this computer matching program include: (1) Increasing the availability of rental assistance to individuals who meet the requirements of the rental assistance programs; (2) after removal of personal identifiers, conducting analyses of the Social Security death data and benefit information, and income reporting of program participants; and (3) measure improper payments due to under-reporting of income and/or overpayment of subsidy on behalf of deceased program participants.

IV. Program Description

HUD will disclose to SSA only tenant personal identifiers, i.e., full name, Social Security number, and date of birth. SSA will match the HUD-provided personal identifiers to personal identifiers included in their various systems of records identified in Section IV of this notice. SSA will validate HUD-provided personal identifiers and provide income data to HUD only for individuals with matched personal identifiers. SSA will also provide the date of death or indication of death for any program participant whose HUD-supplied personal identifiers are successfully matched against SSA databases. For any individual whose personal identifiers do not match the personal identifiers in the SSA database, SSA will provide HUD with an error message, which will describe the reason(s) for no match (i.e. incorrect date of birth or surname, or invalid Social Security number). The SSA-provided data will be made available to POAs in HUD's EIV system.

A. Income Verification

Any match (i.e., a “hit”) will be further reviewed by HUD, the POAs, or the HUD Office of Inspector General (OIG) to determine whether the income reported by tenants to the program administrator is correct and complies with HUD and program administrator requirements. Specifically, current or prior SS and SSI benefit information and other data will be sought directly from tenants. For public housing and Section 8 tenant-based HCV programs, tenants will be required to provide PHAs with original SSA benefit verification letters dated within the last 60 days for comparison to computer matching results for accuracy. For multifamily housing programs, tenants must provide O/As with SSA benefit verification letters dated within the last 120 days. For SS and SSI benefit information for prior years, the tenant may be required to provide POAs with an original benefit history document from SSA if there is a dispute regarding historical income information obtained through the computer matching program.

B. Administrative or Legal Actions

Regarding all the matching described in this notice, POAs will take appropriate action in consultation with tenants to: (1) Resolve income disparities between tenant-reported and SSA-reported data; and (2) Use correct income amounts in determining rental assistance.

POAs must compute the rent in full compliance with all applicable statutes, regulations and administrator policies. POAs must ensure that they use the correct income and correctly compute the rent. In order to protect any individual whose records are used in this matching program, POAs may not suspend, terminate, reduce, or make a final denial of any rental assistance to any tenant, or take other adverse action against the tenant as a result of information produced by this matching program until: (a) The tenant has received notice from the POA of its findings and has been informed of the opportunity to contest such findings; (b) The POA has independently verified the information; and (c) either the notice period provided in applicable regulations of the program, or 30 days, whichever is later, has expired. “Independently verified” in item (b) means the specific information relating to the tenant that is used as a basis for an adverse action has been investigated and confirmed by the POA. (5 U.S.C. 552a) As such, POAs must resolve income discrepancies in consultation with tenants. Additionally, serious violations, which POAs, HUD Program staff, or the HUD OIG verify, should be referred for full investigation and appropriate civil and/or criminal proceedings.

With respect to SSA-provided error messages regarding HUD-provided tenant, and matched personal identifiers, the POAs' administrator/agent will confirm its file and system documentation to confirm accuracy of data elements, and make any necessary corrections. If there is no error in the documentation, the POAs' administrators/agents will notify the individual of the error and request that the individual contact the SSA to correct any SSA data errors. POAs administrators/agents cannot correct such errors.

V. Records To Be Matched

SSA will conduct the matching of tenant SSNs and additional identifiers (surnames and dates of birth) to tenant data that HUD supplies from its systems of records known as the Tenant Rental Assistance Certification System (TRACS), a component of HUD's Tenant Housing Assistance and Contract Verification Data System (HUD/H-11), and the Inventory Management System (IMS), formerly known as the Public and Indian Housing Information Center (PIC) (HUD/PIH-4). The notice for these systems was published at 62 FR 11909 on March 13, 1997, and 73 FR 58256 on October 6, 2008. Program administrators utilize the form HUD-50058 module within the PIC system and the form HUD-50059 module within the TRACS to provide HUD with the tenant data.

SSA will match the tenant records included in HUD/H-11 and HUD/PIH-4 to their systems of records known as SSA's Master Files of Social Security Number Holders, and SSN Applications (60-0058), Master Beneficiary Record (60-0090), and Supplemental Security Income Record and Special Veterans Benefits (60-0103). The notice for these systems was published at 75 FR 82121 on December 29, 2010. HUD will place the resulting matched data into its Enterprise Income Verification (EIV) system (HUD/PIH-5). The notice for this system was initially published at 70 FR 41780 on July 20, 2005, and last amended on September 1, 2009 (74 FR 45235). The tenant records (one record for each family member) include these data elements: full name, SSN, and date of birth.

HUD data will also be matched to the SSA's Master Files of Social Security Number Holders, and SSN Applications (60-0058) for the purpose of validating SSNs of participants of HUD rental assistance programs to identify noncompliance with program eligibility requirements. HUD will compare tenant SSNs provided by POAs to reveal duplicate SSNs and potential duplicate rental assistance.

VI. Period of the Match

The computer matching program will become effective and the matching may commence after the respective Data Integrity Boards (DIBs) of both agencies approve and sign the computer matching agreement, and after, the later of the following: (1) 40 Days after report of the matching program is sent to Congress and OMB; (2) at least 30 days after publication of this notice in the Federal Register, unless comments are received, which would result in a contrary determination. The computer matching program will be conducted according to the computer matching agreement between HUD and SSA. The computer matching agreement for the planned matches will terminate either when the purpose of the computer matching program is accomplished, or 18 months from the effective date of the computer matching agreement. The agreement may be renewed for one 12-month period, with the mutual agreement of all involved parties, if the following conditions are met: (1) Within three months of the expiration date, all DIBs review the agreement, find that the program will be conducted without change, and find a continued favorable examination of benefit/cost results; and (2) All parties certify that the program has been conducted in compliance with the computer matching agreement.

The agreement may be terminated, prior to accomplishment of the computer matching purpose or 18 months from the effective date of the computer matching agreement (whichever comes first), by the mutual agreement of all involved parties within 30 days of written notice.

Authority: 5 U.S.C. 552a, 88 Stat. 1896; 42 U.S.C. 3535(d)

Dated: September 6, 2011.
Kevin R. Cooke,
Deputy Chief Information Officer.

[FR Doc. 2011-23411 Filed 9-13-11; 8:45 am]

BILLING CODE 4210-67-P